DEPARTMENT OF JUSTICE

Notice of Lodging of Consent Decree Pursuant To the Oil Pollution Act of 1990 (OPA), the Clean Water Act (CWA), and the Resource Conservation and Recovery Act (RCRA)

Notice is hereby given that a proposed Consent Decree (Decree) in United States v. V-1 Oil Company, Civil Action No. 96-0454-E BLW, was lodged May 2, 2001, with the United States District Court for the District Of Idaho.

The Complaint filed in the above-referenced matter alleges that V-1 Oil Company (the Defendant) is liable under the Oil Pollution Act of 1990 (OPA) and the Clean Water Act (CWA) for costs incurred by the Environmental Protection Agency and the United States Coast Guard as a result of the release or substantial threat of a release of oil at a former gasoline service station in Preston, Idaho (the Facility). In the Complaint, the United States also sought civil penalties for violation of an administrative order issued pursuant to the CWA and the Resource Conservation and Recovery Act (RCRA).

Under the proposed Decree, the Defendant shall pay $722,000 in reimbursement of removal costs. Additionally, the Defendant shall pay $478,000 in civil penalties. In exchange, the United States is granting Defendant a covenant not to sue or take administrative action against Defendant for the claims alleged in the Complaint. This covenant not to sue extends only to Defendant and does not extend to any other persons.

The Department of Justice will receive, for a period of thirty (30) days from the date of this publication, comments relating to the proposed Decree. Comments should be addressed to the Assistant Attorney General for the Environment and Natural Resources Division, Department of Justice, P.O. Box 7611, Washington, DC 20044-7611, and should refer to United States v. V-1 Oil Company, DOJ Ref. #90-5-1-1-4396A.

The proposed Decree may be examined at the office of the United States Environmental Protection Agency, Region 10, 1200 Sixth Avenue, Seattle, Washington 98101. A copy of the proposed Decree may also be obtained by mail from the Consent Decree Library, P.O. Box 7611, Washington, DC 20044. In requesting a copy of the Consent Decree, please refer to the referenced case number and enclose a check in the amount of $4.50, payable to the Consent Decree Library.

Robert Maher,
Assistant Section Chief, Environmental Enforcement Section, Environment and Natural Resources Division.

[FR Doc. 01-13029 Filed 5-22-01; 8:45 am]

BILLING CODE 4410-15-M